DEPARTMENT OF THE TREASURY

Submission for OMB Review; Comment Request

July 13, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 21, 2006 to be assured of consideration.

Alcohol and Tobacco Tax and Trade Bureau (TTB)

OMB Number: 1513-0047.

Type of Review: Extension.

Title: Distilled Spirits Records and Monthly Report of Production Operations.

Form: TTB REC 5110/01 and TTB F 5110.40.

Description: The information collected is used to account for proprietor's tax liability, adequacy of bond coverage and protection of the revenue. The information also provides data to analyze trends in the industry, and plan efficient allocation of field resources, audit plant operations, and compilation of statistics for government economic analysis.

Respondents: Business or other for-profit.

Estimated Total Burden Hours: 3,600 hours.

OMB Number: 1513-0028.

Type of Review: Revision.

Title: Application for an Industrial Alcohol User Permit.

Form: TTB F 5150.22.

Description: TTB F 5150.22 is used to determine the eligibility of the applicant to engage in certain operations and the extent of the operations for the production and distribution of specially denatured spirits (alcohol/rum). This form identifies the location of the premises and establishes whether the premises will be in conformity with the Federal laws and regulations.

Respondents: Business or other for-profit, not-for-profit institutions, state, local, or tribal governments.

Estimated Total Burden Hours: 738 hours.

OMB Number: 1513-0048.

Type of Review: Extension.

Title: Registration of Distilled Spirits Plant and Miscellaneous Requests and Notices for Distilled Spirits Plants.

Form: TTB F 5110.41.

Description: The information provided by the applicants assists TTB in determining eligibility and providing for registration. These eligibility requirements are for persons who wish to establish distilled spirits plant operations. However, both statutes and regulations allow variances from regulations, and this information gives data to permit a variance.

Respondents: Business or other for-profit.

Estimated Total Burden Hours: 1,888 hours.

OMB Number: 1513-0060.

Type of Review: Extension.

Title: Letterhead Applications and Notices Relating to Tax-Free Alcohol.

Form: TTB REC 5150/4.

Description: Tax-free alcohol is used for nonbeverage purposes in scientific research and medicinal uses by educational organizations, hospitals, laboratories, etc. Permits/Applications control authorized uses and flow. TTB REC 5150/4 is designed to protect revenue and public safety.

Respondents: Business or other for-profit, not-for-profit institutions, Federal, state, local or tribal governments.

Estimated Total Burden Hours: 2,222 hours.

OMB Number: 1513-0004.

Type of Review: Extension.

Title: Authorization to Furnish Financial Information and Certificate of Compliance.

Form: TTB F 5030.6.

Description: The Right to Financial Privacy Act of 1978 limits access to records held by financial institutions and provides for certain procedures to gain access to the information. TTB F 5030.6 serves as both a customer authorization for TTB to receive information and as the required certification to the financial institution.

Respondents: Business or other for-profit.

Estimated Total Burden Hours: 500 hours.

OMB Number: 1513-0074.

Type of Review: Extension.

Title: Airlines Withdrawing Stock from Customs Custody.

Form: TTB REC 5620/2.

Description: Airlines may withdraw tax exempt distilled spirits, wine, and beer from Customs custody for foreign flights. Required record shows amount of spirits and wine withdrawn and flight identification; also has Customs certification; enables TTB to verify that tax is not due; allows spirits and wines to be traced and maintains accountability. Protects tax revenue. The collection of information is contained in 27 CFR 28.280 and 28.281.

Respondents: Business or other for-profit.

Estimated Total Burden Hours: 2,500 hours.

OMB Number: 1513-0089.

Type of Review: Extension.

Title: Liquors and Articles from Puerto Rico or the Virgin Islands.

Form: TTB REC 5530/3.

Description: The information collection requirements for persons bringing nonbeverage products into the United States from Puerto Rico and the Virgin Islands are necessary for the verification of claims for drawback of distilled spirits excise taxes paid on such products.

Respondents: Business or other for-profit.

Estimated Total Burden Hours: 160 hours.

Clearance Officer: Frank Foote, (202) 927-9347, Alcohol and Tobacco Tax and Trade Bureau, Room 200 East, 1310 G Street, NW., Washington, DC 20005.

OMB Reviewer: Alexander T. Hunt, (202) 395-7316, Office of Management and Budget, Room 10235, New Executive Office Building, Washington, DC 20503.

Robert Dahl,
Treasury PRA Clearance Officer.

[FR Doc. E6-11479 Filed 7-19-06; 8:45 am]

BILLING CODE 4810-31-P